DEPARTMENT OF TRANSPORTATION

Federal Railroad Administration

[Docket Number FRA-2012-0002]

Petition for Waiver of Compliance

In accordance with Part 211 of Title 49 of the Code of Federal Regulations (CFR), this document provides the public notice that by a document dated December 19, 2011, Durango & Silverton Narrow Gauge Railroad (DSNG) has petitioned the Federal Railroad Administration (FRA) for a waiver of compliance from certain provisions of the Federal railroad safety regulations contained at 49 CFR Part 230, Steam Locomotive Inspection and Maintenance Standards. FRA assigned the petition Docket Number FRA-2012-0002.

DSNG is a tourist railroad that operates between Durango and Silverton, CO. The railroad maintains six narrow gauge (36-inch) steam locomotives; four 1925 Baldwin 2-8-2 locomotives and two 1923 Alco 2-8-2 locomotives. All of these locomotives have received previous 1,472 service-day inspections (SDI) in accordance with 49 CFR 230.17 and will soon receive their second 1,472 SDI due to an accumulation of service days rather than an expiration of the 15 years permitted by 49 CFR 230.17.

Locomotive No. 480, a 1925 Baldwin 2-8-2, has accumulated 1,307 days of service. This locomotive is currently removed from service due to a crack found on the knuckle of the rear flue sheet necessitating repair or replacement. Replacement was chosen due to the age of the existing flue sheet and the added safety of replacement versus repairing the crack in place. Replacement requires that all of the boiler flues will have to be removed to affect the repair. The flues will be removed 165 service days earlier than required for the 1,472 SDI. While the flues are removed, DSNG will clean and inspect the boiler interior as required by 49 CFR 230.31 and 230.32(b)(2), and the applicable portions of 49 CFR 230.32(a).

DSNG requests relief from 49 CFR 230.31(a) with respect to timeframe, and 49 CFR 230.32(b)(3) with respect to boiler exterior. DSNG desires to perform the interior portion of the 1,472 SDI; return the locomotive back into service for the remainder of the 2012 operating season; and complete the exterior portion of the 1,472 SDI at or before the expiration of its present 1,472 service-day cycle. DSNG states that granting of relief will allow extensive monetary savings, as removing and replacing the flues twice within 12 months would be burdensome and costly with a negligible effect on safety. The request is for permission to perform the interior boiler inspection earlier than required. The use of service time for the next 1,472 SDI will start with the first firing of the boiler after returning to service, not at the completion of the exterior inspection.

A copy of the petition, as well as any written communications concerning the petition, is available for review online at http://www.regulations.gov and in person at the U.S. Department of Transportation's (DOT) Docket Operations Facility, 1200 New Jersey Avenue SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal holidays.

Communications received by April 2, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on February 13, 2012.
Ron Hynes,
Acting Deputy Associate Administrator for Regulatory and Legislative Operations.

[FR Doc. 2012-3683 Filed 2-15-12; 8:45 am]

BILLING CODE 4910-06-P